NUCLEAR REGULATORY COMMISSION

Agency Information Collection Activities: Submission for the Office of Management and Budget (OMB) Review; Comment Request

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register Notice with a 60-day comment period on this information collection on March 24, 2008.

1. Type of submission—new, revision, or extension: Revision.

2. The title of the information collection: 10 CFR Part 54, “Requirements for Renewal of Operating Licenses for Nuclear Power Plants.”

3. Current OMB approval number: 3150-0155.

4. The form number if applicable: Not applicable.

5. How often the collection is required: There is a one-time application for any licensee wishing to renew its nuclear power plant's operating license. There is a one-time requirement for each licensee with a renewed operating license to submit a commitment completion letter. All holders of renewed licenses must perform yearly record keeping.

6. Who will be required or asked to report: Commercial nuclear power plant licensees who wish to renew their operating licenses and holders of renewed licenses.

7. An estimate of the number of annual responses: 10 (six Part 54 respondents plus four commitment completion letter respondents).

8. The estimated number of annual respondents: 50 (10 responses plus 40 recordkeepers).

9. An estimate of the total number of hours needed annually to complete the requirement or request: 544,940 hours (504,940 hours reporting plus 40,000 hours recordkeeping).

10. Abstract: Title 10, Part 54, establishes license renewal requirements for commercial nuclear power plants and describes the information that licensees must submit to the NRC when applying for a license renewal.

The application must contain information on how the licensee will manage the detrimental effects of age-related degradation on certain plant systems, structures, and components so as to continue the plant's safe operation during the renewal term. The NRC needs this information to determine whether the licensee's actions will be effective in assuring the plant's continued safe operation.

Holders of renewed licenses must retain in an auditable and retrievable form, for the term of the renewed operating license, all information and documentation required to document compliance with 10 CFR Part 54. The NRC needs access to this information for continuing effective regulatory oversight.

A copy of the final supporting statement may be viewed free of charge at the NRC Public Document Room, One White Flint North, 11555 Rockville Pike, Room O-1 F21, Rockville, MD 20852. OMB clearance requests are available at the NRC worldwide Web site: http://www.nrc.gov/public-involve/doc-comment/omb/index.html. The document will be available on the NRC home page site for 60 days after the signature date of this notice. Comments and questions should be directed to the OMB reviewer listed below by July 18, 2008. Comments received after this date will be considered if it is practical to do so, but assurance of consideration cannot be given to comments received after this date. Nathan J. Frey, Office of Information and Regulatory Affairs (3150-0155), NEOB-10202, Office of Management and Budget, Washington, DC 20503.

Comments can also be e-mailed to Nathan_J._Frey@omb.eop.gov or submitted by telephone at (202) 395-7345.

The NRC Clearance Officer is Margaret A. Janney, (301) 415-7245.

Dated at Rockville, Maryland, this 12th day of June, 2008.
For the Nuclear Regulatory Commission.
Gregory Trussell,
Acting NRC Clearance Officer, Office of Information Services.

[FR Doc. E8-13726 Filed 6-17-08; 8:45 am]

BILLING CODE 7590-01-P